INTERNATIONAL TRADE COMMISSION

[USITC SE-08-004]

Sunshine Act Meeting Notice

Agency Holding the Meeting: United States International Trade Commission.

Time and Date: March 14, 2008 at 11 a.m.

Place: Room 101, 500 E Street, SW., Washington, DC 20436, Telephone: (202) 205-2000.

Status: Open to the public.

Matters To Be Considered: 1. Agenda for future meetings: none.

2. Minutes.

3. Ratification List.

4. Inv. Nos. 701-TA-454 and 731-TA-1144 (Preliminary) (Welded Stainless Steel Pressure Pipe from China)—briefing and vote. (The Commission is currently scheduled to transmit its determination to the Secretary of Commerce on or before March 17, 2008; Commissioners' opinions are currently scheduled to be transmitted to the Secretary of Commerce on or before March 24, 2008.)

5. Outstanding action jackets: none.

In accordance with Commission policy, subject matter listed above, not disposed of at the scheduled meeting, may be carried over to the agenda of the following meeting. Earlier notification of this meeting was not possible.

By order of the Commission.
Issued: March 4, 2008.
William R. Bishop,
Hearings and Meetings Coordinator.

[FR Doc. E8-4763 Filed 3-10-08; 8:45 am]

BILLING CODE 7020-02-P